DEPARTMENT OF ENERGY

Energy Information Administration

Agency information collection activities: Proposed collection; comment request

AGENCY: Energy Information Administration (EIA), Department of Energy (DOE).

ACTION: Agency information collection activities: Proposed collection; comment request.

SUMMARY: The EIA is soliciting comments on the proposed three-year extension to the “Recordkeeping Requirements of DOE's General Allocation and Price Rules,” ERA-766R.

DATES: Comments must be filed by October 3, 2005. If you anticipate difficulty in submitting comments within that period, contact the person listed below as soon as possible.

ADDRESSES: Send comments to Mr. John D. Bullington. To ensure receipt of the comments by the due date, submission by FAX (202-586-6191) or e-mail (Dan.Bullington@hq.doe.gov) is recommended. The mailing address is Office of General Counsel, GC-90, Forrestal Building, U.S. Department of Energy, Washington, DC 20585. Alternatively, Mr. Bullington may be contacted by telephone at 202-586-7364.

FOR FURTHER INFORMATION CONTACT: Requests for additional information or copies of any forms and instructions should be directed to Mr. Bullington at the address listed above.

SUPPLEMENTARY INFORMATION:

I. Background

II. Current Actions

III. Request for Comments

I. Background

The Federal Energy Administration Act of 1974 (Pub. L. No. 93-275, 15 U.S.C. 761 et seq.) and the DOE Organization Act (Pub. L. No. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under Section 3507(a) of the Paperwork Reduction Act of 1995.

The recordkeeping requirements are authorized by section 203(a)(1) of the Economic Stabilization Act (ESA) of 1970, as amended (Pub. L. 92-210, 85 Stat. 743) and by section 13(g) of the Federal Energy Administration Act (FEAA) of 1974, as amended (Pub.L. 93-275). DOE proposes to extend for three years the limited recordkeeping requirements presently contained in 10 CFR 210.1. The antecedent regulation was narrowed by amendment in January 1985. This limited extension is proposed as a protective measure to preserve records relating to the prior price and allocation regulations for an additional three years.

II. Current Actions

This is an extension with no change of the existing requirements. The requirements are proposed to be extended for a period of three years, from February 28, 2006, to February 28, 2009.

III. Request for Comments

Prospective respondents and other interested parties should comment on the actions discussed in item II. The following guidelines are provided to assist in the preparation of comments.

General Issues

A. EIA is interested in receiving comments from persons regarding whether the proposed recordkeeping requirements are necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. Are the instructions regarding the recordkeeping requirements clear and sufficient? If not, which instructions require clarification?

B. Can information be maintained as specified in the recordkeeping requirements?

C. Public reporting burden for the recordkeeping requirements are estimated to average 4 hours per respondent. The estimated burden includes the total time, effort, or financial resources expended to generate, maintain, retain, disclose and provide information.

D. The agency estimates respondents will incur no additional costs other than the hours required to maintain the records. What is the estimated: (1) Total dollar amount annualized for capital and start-up costs, and (2) recurring annual costs of operation and maintenance, and purchase of services associated with these recordkeeping requirements.

Comments submitted in response to this notice will be summarized and/or included in the request for OMB approval of the form. They also will become a matter of public record.

Statutory Authority: Section 3507(h)(1) of the Paperwork Reduction Act of 1995 (Pub. L. No. 104-13, 44 U.S.C. Chapter 35).

Issued in Washington, DC, July 26, 2005.
Jay H. Casselberry,
Agency Clearance Officer, Energy Information Administration.

[FR Doc. 05-15292 Filed 8-2-05; 8:45 am]

BILLING CODE 6450-01-P